DEPARTMENT OF DEFENSE

Office of the Secretary

Department of Defense Wage Committee (DoDWC); Notice of Federal Advisory Committee Meetings

AGENCY: Under Secretary of Defense for Personnel and Readiness (USD(P&R)), Department of Defense (DoD).

ACTION: Notice of closed Federal advisory committee meetings.

SUMMARY: The DoD is publishing this notice to announce that the following Federal Advisory Committee meetings of the DoDWC will take place.

DATES:

Tuesday, May 30, 2023, from 10:00 a.m. to 10:30 a.m. and will be closed to the public.

Tuesday, June 13, 2023, from 10:00 a.m. to 12:30 p.m. and will be closed to the public.

Tuesday, June 27, 2023, from 10:00 a.m. to 12:30 p.m. and will be closed to the public.

Tuesday, July 11, 2023, from 10:00 a.m. to 11:00 a.m. and will be closed to the public.

Tuesday, July 25, 2023, from 10:00 a.m. to 12:30 p.m. and will be closed to the public.

Tuesday, August 8, 2023, from 10:00 a.m. to 11:00 a.m. and will be closed to the public.

Tuesday, August 22, 2023 from 10:00 a.m. to 1:30 p.m. and will be closed to the public.

ADDRESSES: The closed meetings will be held by teleconference.

FOR FURTHER INFORMATION CONTACT: Mr. Karl Fendt, (571) 372-1618 (voice), karl.h.fendt.civ@mail.mil (email), 4800 Mark Center Drive, Suite 05G21, Alexandria, Virginia 22350 (mailing address). Any agenda updates can be found at the DoDWC's official website: https://wageandsalary.dcpas.osd.mil/BWN/DODWC/.

SUPPLEMENTARY INFORMATION: Due to circumstances beyond the control of the DoD and the Designated Federal Officer (DFO) for the DoDWC, the DoDWC was unable to provide public notification required by 41 CFR 102-3.450(a) concerning its May 30, 2023 meeting. Accordingly, the Advisory Committee Management Officer for the DoD, pursuant to 41 CFR 102-3.150(b), waives the 15-calendar day notification requirement.

These meetings are being held under the provisions of chapter 10 of title 5, United States Code (U.S.C.) (commonly known as the “Federal Advisory Committee Act” or “FACA”), 5 U.S.C. 552b (commonly known as the “Government in the Sunshine Act”), and 41 CFR 102-3.140 and 102-3.150.

Purpose of the Meeting: The purpose of these meetings is to provide independent advice and recommendations on matters relating to the conduct of wage surveys and the establishment of wage schedules for all appropriated fund and non-appropriated fund areas of blue-collar employees within the DoD.

Agendas

May 30, 2023

Opening Remarks by Chair and DFO.

Reviewing survey results and/or survey specifications for the following Appropriated Fund areas:

1. Any items needing further clarification or action from the previous agenda.

2. Survey Specifications for the Albany, Georgia wage area (AC-036).

3. Survey Specifications for Northwestern Michigan wage area (AC-071).

4. Survey Specifications for the Tulsa, Oklahoma wage area (AC-111).

5. Survey Specifications for the Scranton-Wilkes Barre, Pennsylvania wage area (AC-117).

6. Any items needing further clarification from this agenda may be discussed during future scheduled meetings.

Closing Remarks by Chair.

June 13, 2023

Opening Remarks by Chair and DFO.

Reviewing survey results and/or survey specifications for the following Nonappropriated Fund areas:

1. Any items needing further clarification or action from the previous agenda.

2. Survey Specifications for the Hampden, Massachusetts wage area (AC-039).

3. Survey Specifications for the Middlesex, Massachusetts wage area (AC-138).

4. Survey Specifications for the York, Maine wage area (AC-139).

Reviewing survey results and/or survey specifications for the following Appropriated Fund areas:

5. Wage Schedule (Full Scale) for the New Haven-Hartford, Connecticut wage area (AC-024).

6. Wage Schedule (Full Scale) for the Albuquerque, New Mexico wage area (AC-089).

7. Wage Schedule (Full Scale) for the Cleveland, Ohio wage area (AC-105).

8. Wage Schedule (Full Scale) for the Texarkana, Texas wage area (AC-136).

9. Wage Schedule (Wage Change) for the Anniston-Gadsden, Alabama wage area (AC-001).

10. Wage Schedule (Wage Change) for the Huntsville, Alabama wage area (AC-004).

11. Wage Schedule (Wage Change) for the Tampa-St. Petersburg, Florida wage area (AC-035).

12. Wage Schedule (Wage Change) for the Lake Charles-Alexandria, Louisiana wage area (AC-060).

13. Wage Schedule (Wage Change) for the El Paso, Texas wage area (AC-132).

14. Survey Specifications for the San Diego, California wage area (AC-017).

15. Survey Specifications for the San Francisco, California wage area (AC-018).

16. Survey Specifications for the Pensacola, Florida wage area (AC-034).

17. Survey Specifications for the Central Illinois wage area (AC-046).

18. Survey Specifications for the Des Moines, Iowa wage area (AC-054).

19. Survey Specifications for the Baltimore, Maryland wage area (AC-066).

20. Survey Specifications for the Buffalo, New York wage area (AC-092).

21. Any items needing further clarification from this agenda may be discussed during future scheduled meetings.

Closing Remarks by Chair.

June 27, 2023

Opening Remarks by Chair and DFO.

Reviewing survey results and/or survey specifications for the following Nonappropriated Fund areas:

1. Any items needing further clarification or action from the previous agenda.

2. Wage Schedule (Full Scale) for the McLennan, Texas wage area (AC-022).

3. Wage Schedule (Full Scale) for the Allegheny, Pennsylvania wage area (AC-066).

4. Wage Schedule (Full Scale) for the Jefferson, New York wage area (AC-101).

5. Wage Schedule (Full Scale) for the Orange, New York wage area (AC-103).

6. Wage Schedule (Full Scale) for the Macomb, Michigan wage area (AC-162).

7. Wage Schedule (Full Scale) for the Niagara, New York wage area (AC-163).

8. Wage Schedule (Wage Change) for the Cumberland, Pennsylvania wage area (AC-092).

9. Wage Schedule (Wage Change) for the York, Pennsylvania wage area (AC-093).

10. Wage Schedule (Wage Change) for the Honolulu, Hawaii wage area (AC-106).

11. Wage Schedule (Wage Change) for the Norfolk-Portsmouth-Virginia Beach, Virginia wage area (AC-111).

12. Wage Schedule (Wage Change) for the Hampton-Newport News, Virginia wage area (AC-112).

13. Wage Schedule (Wage Change) for the Harford, Maryland wage area (AC-148).

Reviewing survey results and/or survey specifications for the following Appropriated Fund areas:

14. Special Pay—Washington, District of Columbia TV Systems (AC-B027).

15. Special Pay—Washington, District of Columbia Electronic Equipment Maker (AC-A027).

16. Any items needing further clarification from this agenda may be discussed during future scheduled meetings.

Closing Remarks by Chair.

July 11, 2023

Opening Remarks by Chair and DFO.

Reviewing survey results and/or survey specifications for the following Appropriated Fund areas:

1. Any items needing further clarification or action from the previous agenda.

2. Wage Schedule (Full Scale) for the Atlanta, Georgia wage area (AC-037).

3. Wage Schedule (Full Scale) for the Waco, Texas wage area (AC-137).

4. Wage Schedule (Wage Change) for the Shreveport, Louisiana wage area (AC-062).

5. Wage Schedule (Wage Change) for the Augusta, Maine wage area (AC-063).

6. Wage Schedule (Wage Change) for the Central North Carolina wage area (AC-099).

7. Wage Schedule (Wage Change) for the Norfolk-Portsmouth-Newport News-Hampton, Virginia wage area (AC-140).

8. Survey Specifications for the Cocoa Beach-Melbourne, Florida wage area (AC-028).

9. Survey Specifications for the Eastern South Dakota wage area (AC-121).

10. Any items needing further clarification from this agenda may be discussed during future scheduled meetings.

Closing Remarks by Chair.

July 25, 2023

Opening Remarks by Chair and DFO.

Reviewing survey results and/or survey specifications for the following Nonappropriated Fund areas:

1. Any items needing further clarification or action from the previous agenda.

2. Wage Schedule (Full Scale) for the Tom Green, Texas wage area (AC-032).

3. Wage Schedule (Full Scale) for the Cobb, Georgia wage area (AC-034).

4. Wage Schedule (Full Scale) for the Columbus, Georgia wage area (AC-067).

5. Wage Schedule (Wage Change) for the Pennington, South Dakota wage area (AC-086).

6. Wage Schedule (Wage Change) for the Nueces, Texas wage area (AC-115).

7. Wage Schedule (Wage Change) for the Bexar, Texas wage area (AC-117).

8. Wage Schedule (Wage Change) for the Anchorage, Alaska wage area (AC-118).

9. Wage Schedule (Wage Change) for the Kitsap, Washington wage area (AC-142).

10. Wage Schedule (Wage Change) for the Dallas, Texas wage area (AC-152).

11. Wage Schedule (Wage Change) for the Tarrant, Texas wage area (AC-156).

Reviewing survey results and/or survey specifications for the following Appropriated Fund areas:

12. Wage Schedule (Full Scale) for the Savannah, Georgia wage area (AC-042).

13. Wage Schedule (Full Scale) for the Western Texas wage area (AC-127).

14. Wage Schedule (Wage Change) for the Columbia, South Carolina wage area (AC-120).

15. Survey Specifications for the Davenport-Rock Island-Moline, Iowa wage area (AC-053).

16. Survey Specifications for the Southwestern Michigan wage area (AC-073).

17. Survey Specifications for the Philadelphia, Pennsylvania wage area (AC-115).

18. Special Pay—Western Texas Special Rate.

19. Any items needing further clarification from this agenda may be discussed during future scheduled meetings.

Closing Remarks by Chair.

August 8, 2023

Opening Remarks by Chair and DFO.

Reviewing survey results and/or survey specifications for the following Appropriated Fund areas:

1. Any items needing further clarification or action from the previous agenda.

2. Wage Schedule (Full Scale) for the Augusta, Georgia wage area (AC-038).

3. Wage Schedule (Full Scale) for the Macon, Georgia wage area (AC-041).

4. Wage Schedule (Full Scale) for the Southeastern Washington-Eastern Oregon wage area (AC-144).

5. Wage Schedule (Wage Change) for the Hawaii wage area (AC-044).

6. Wage Schedule (Wage Change) for the Central & Western Massachusetts wage area (AC-069).

7. Wage Schedule (Wage Change) for the Southwestern Wisconsin wage area (AC-149).

8. Special Pay—Macon, Georgia Special Rates.

9. Special Pay—Southeastern Washington-Eastern Oregon Special Rates.

10. Any items needing further clarification from this agenda may be discussed during future scheduled meetings.

Closing Remarks by Chair.

August 22, 2023

Opening Remarks by Chair and DFO.

Reviewing survey results and/or survey specifications for the following Nonappropriated Fund areas:

1. Any items needing further clarification or action from the previous agenda.

2. Wage Schedule (Full Scale) for the Hennepin, Minnesota wage area (AC-015).

3. Wage Schedule (Full Scale) for the Grand Forks, North Dakota wage area (AC-017).

4. Wage Schedule (Full Scale) for the Davis-Weber-Salt Lake, Utah wage area (AC-018).

5. Wage Schedule (Full Scale) for the Ada-Elmore, Idaho wage area (AC-038).

6. Wage Schedule (Full Scale) for the Cascade, Montana wage area (AC-040).

7. Wage Schedule (Full Scale) for the Spokane, Washington wage area (AC-043).

8. Wage Schedule (Wage Change) for the Arapahoe-Denver, Colorado wage area (AC-084).

9. Wage Schedule (Wage Change) for the El Paso, Colorado wage area (AC-085).

10. Wage Schedule (Wage Change) for the Laramie, Wyoming wage area (AC-087).

11. Wage Schedule (Wage Change) for the New London, Connecticut wage area (AC-136).

12. Wage Schedule (Wage Change) for the Snohomish, Washington wage area (AC-141).

13. Wage Schedule (Wage Change) for the Pierce, Washington wage area (AC-143).

14. Wage Schedule (Wage Change) for the Newport, Rhode Island wage area (AC-167).

15. Survey Specifications for the Washoe-Churchill, Nevada wage area (AC-011).

16. Survey Specifications for the Orange, Florida wage area (AC-062).

17. Survey Specifications for the Bay, Florida wage area (AC-063).

18. Survey Specifications for the Escambia, Florida wage area (AC-064).

19. Survey Specifications for the Okaloosa, Florida wage area (AC-065).

20. Survey Specifications for the Clark, Nevada wage area (AC-140).

Reviewing survey results and/or survey specifications for the following Appropriated Fund areas:

21. Wage Schedule (Full Scale) for the Duluth, Minnesota wage area (AC-074).

22. Wage Schedule (Full Scale) for the San Antonio, Texas wage area (AC-135).

23. Wage Schedule (Full Scale) for the Milwaukee, Wisconsin wage area (AC-148).

24. Wage Schedule (Wage Change) for the Central & Northern Maine wage area (AC-064).

25. Wage Schedule (Wage Change) for the Asheville, North Carolina wage area (AC-098).

26. Wage Schedule (Wage Change) for the Southwestern Oregon wage area (AC-113).

27. Wage Schedule (Wage Change) for the Austin, Texas wage area (AC-129).

28. Wage Schedule (Wage Change) for the Corpus Christi, Texas wage area (AC-130).

29. Survey Specifications for the Wilmington, Delaware wage area (AC-026).

30. Survey Specifications for the Topeka, Kansas wage area (AC-056).

31. Survey Specifications for the Wichita, Kansas wage area (AC-057).

32. Survey Specifications for the Biloxi, Michigan wage area (AC-076).

33. Survey Specifications for the Roanoke, Virginia wage area (AC-142).

34. Any items needing further clarification from this agenda may be discussed during future scheduled meetings.

Closing Remarks by Chair.

Meeting Accessibility: Pursuant to 5 U.S.C. 552b(c)(4), the DoD has determined that the meetings shall be closed to the public. The USD(P&R), in consultation with the DoD Office of General Counsel, has determined in writing that each of these meetings is likely to disclose trade secrets and commercial or financial information obtained from a person and privileged or confidential.

Written Statements: Pursuant to section 1009(a)(3) of the FACA and 41 CFR 102-3.140, interested persons may submit written statements to the DFO for the DoDWC at any time. Written statements should be submitted to the DFO at the email or mailing address listed in the FOR FURTHER INFORMATION CONTACT section. If statements pertain to a specific topic being discussed at a planned meeting, then these statements must be submitted no later than five (5) business days prior to the meeting in question. Written statements received after this date may not be provided to or considered by the DoDWC until its next meeting. The DFO will review all timely submitted written statements and provide copies to all the committee members before the meeting that is the subject of this notice.

Dated: May 19, 2023.
Aaron T. Siegel,
Alternate OSD Federal Register Liaison Officer, Department of Defense.

[FR Doc. 2023-11069 Filed 5-23-23; 8:45 am]

BILLING CODE 5001-06-P